DEPARTMENT OF ENERGY

Federal Energy Regulatory Commission

Notice of Public Availability of FY 2014 Service Contract Inventories and Supplemental Data

AGENCY: Federal Energy Regulatory Commission.

ACTION: Notice of public availability of FY 2014 service contract inventories and supplemental data.

SUMMARY: In accordance with Section 743 of Division C of the Consolidated Appropriations Act of 2010 (Pub. L. 111-117), the Federal Energy Regulatory Commission (FERC) is publishing this notice to advise the public on the availability of the FY 2014 Service Contract Inventory, a report that analyzes the Commission's FY 2014 Service Contract Inventory and an inventory supplement that identifies the amount invoiced and direct labor hours for covered service contract actions.

The service contract inventory provides information on service contract actions over $25,000 that FERC completed in FY 2014. The information is organized by function to show how contracted resources are distributed throughout the agency. The inventory has been developed in accordance with guidance issued on November 5, 2010, by the Office of Management and Budget's Office of Federal Procurement Policy (OFPP).

OFPP's guidance is available at http://www.whitehouse.gov/sites/default/files/omb/procurement/memo/service-contract-inventories-guidance-11052010.pdf. On December 19, 2011, OFPP issued additional guidance available at http://www.whitehouse.gov/sites/default/files/omb/procurement/memo/service-contract-inventory-guidance.pdf. FERC has posted its FY 2014 inventory and summary at the following link: http://www.ferc.gov/about/offices/oed/oed-fo/oed-acquisition.asp.

FOR FURTHER INFORMATION CONTACT: Katharine Lindner, Acquisition Services Division, Office of the Executive Director, Federal Energy Regulatory Commission, 888 First Street NE., Washington, DC 20426, (202) 502-6044, katharine.lindner@ferc.gov.

Dated: June 11, 2015.
Kimberly D. Bose,
Secretary.

[FR Doc. 2015-14871 Filed 6-16-15; 8:45 am]

BILLING CODE 6717-01-P